DEPARTMENT OF ENERGY

Federal Energy Regulatory Commission

[Docket Nos. RM96-1-015, RP01-384-000, and RP01-385-000 (Not Consolidated)]

Standards for Business Practices of Interstate Natural Gas Pipeline; Chandeleur Pipe Line Company, USG Pipeline Company; Notice of Compliance Filing

April 26, 2001.

Take notice that the above-referenced pipelines made filings in compliance with Docket No. RM96-1-015, Order No. 587-M.¹ The tariff sheets implement Version 1.4 of the Gas Industry Standards Board (GISB) Standards accepted by the Commission in Order No. 587-M and are proposed to become effective May 1, 2001.

¹ Standards for Business Practices of Interstate Natural Gas Pipelines, Order No. 587-M, 65 FR 77285 (Dec. 11, 2000), FERC Stats. & Regs. Regulations Preambles [Jul. 1996-Dec. 2000] ¶ 31,114 (Nov. 30, 2000).

On November 30, 2000 at Docket No. RM96-1-015, the Commission issued Order No. 587-M to amend section 284.12(b) of its regulations to incorporate Version 1.4 of the GISB standards. The business practices and standards contained in Order 587-M make additions and revisions to Version 1.3 of the standards, which had previously been incorporated by reference. Among other things, Order No. 587-M adopted the business practices and electronic communications standards created by GISB on August 31 and November 15, 1999. Order No. 587-M requires pipelines to adopt Version 1.4 of the GISB Standards and to implement these provisions by May 1, 2001.

Any person desiring to become a party a proceeding must file a separate motion to intervene or protest in each docket.

Any person desiring to be heard or to protest said filings should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/ online/rims.htm (call 202-208-2222 for assistance). Comments, protests, and interventions may be filed electronically via the internet in lieu of paper. See, 18 CFR 385.2001(a)(1)(iii) and the instructions on the Commission's web site at http://www.ferc.fed.us/efi/ doorbell.htm.

David P. Boergers,
Secretary.

[FR Doc. 01-10778 Filed 4-30-01; 8:45 am]

BILLING CODE 6717-01-M